DEPARTMENT OF DEFENSE

Department of the Army

Availability for Non-Exclusive, Exclusive, or Partially Exclusive Licensing of U.S. Patent Concerning Fiber Optic Periodontal Endoscope

AGENCY: Department of the Army, DoD.

ACTION: Notice.

SUMMARY: In accordance with 37 CFR 404.6, announcement is made of the availability for licensing of U.S. Patent No. 5,919,129 entitled “Fiber Optic Periodontal Endoscope” issued July 6, 1999. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office, of Research & Technology Assessment, (301) 619-6664, both at telefax (301) 619-5034.

SUPPLEMENTARY INFORMATION: A fiber optic periodontal endoscope includes a lens and light housing assembly attached to a handle end tip containing fiber optic bundles transmitting light from the source to illuminate the probe tip. The returning image traveling back through the handle along the fiber optic bundle is reflected off a mirror toward the magnification lens housed in a portion of the assembly which is at right angles to the light housing portion. The probe has two rotating joints, one between the tip and handle and the other between the assembly and handle to enable rotation of the lens for ease of viewing and additional rotation of the probe tip to allow for illumination and visualization at the side of the tin.

Luz D. Ortiz,
Army Federal Register Liaison Officer.

[FR Doc. 02-4181 Filed 2-20-02; 8:45 am]

BILLING CODE 3710-08-M